Presidential Determination No. 2006-8 of December 30, 2005

Drawdown to Provide Disaster Relief Assistance for Pakistan Under Section 506(a)(2) of the Foreign Assistance Act of 1961, as Amended

Memorandum for the Secretary of State

Pursuant to the authority vested in me by section 506(a)(2) of the Foreign Assistance Act of 1961, as amended, 22 U.S.C. 2318(a)(2)(the “Act”), I hereby determine that it is in the national interest of the United States to draw down articles and services from the inventory and resources of the Department of Defense for the purpose of providing international disaster relief assistance to Pakistan.

I therefore direct the drawdown of up to $30 million of defense articles and services from the inventory and resources of the Department of Defense for Pakistan for the purposes and under the authorities of chapter 9 of part I of the Act, relating to international disaster assistance.

The Secretary of State is authorized and directed to report this determination to the Congress and to arrange for its publication in the Federal Register.

B

THE WHITE HOUSE,

Washington, December 30, 2005.

[FR Doc. 06-212

Filed 1-6-06; 8:45 am]

Billing code 4710-10-P